SECURITIES AND EXCHANGE COMMISSION

[Release No. 34-81309; File No. SR-NYSE-2017-30]

Self-Regulatory Organizations; New York Stock Exchange LLC; Notice of Designation of Longer Period for Commission Action on a Proposed Rule Change, as Modified by Amendment No. 1, To Amend Section 102.01B of the NYSE Listed Company Manual To Provide for the Listing of Companies That List Without a Prior Exchange Act Registration and That Are Not Listing in Connection With an Underwritten Initial Public Offering and Related Changes to Rules 15, 104, and 123D

August 3, 2017.

On June 13, 2017, the New York Stock Exchange LLC (“NYSE” or the “Exchange”) filed with the Securities and Exchange Commission (“Commission”), pursuant to Section 19(b)(1) of the Securities Exchange Act of 1934 (“Act”) ¹ and Rule 19b-4 thereunder,² a proposed rule change to amend Section 102.01B of the Manual to modify the provisions relating to the qualification of companies listing without a prior Exchange Act registration and an underwritten offering to permit the listing of such companies immediately upon effectiveness of an Exchange Act registration statement without a concurrent public offering registered under the Securities Act of 1933 provided the company meets all other listing requirements. The proposal, also would (i) eliminate the requirement to have a private placement market trading price if there is a valuation from an independent third-party of $250 million in market value of publicly-held shares; (ii) amend Rule 15 to add a Reference Price for when a security is listed under Footnote (E) to Section 102.01B; (iii) amend Rule 104 to specify Designated Market Maker (“DMM”) requirements when a security is listed under Footnote (E) to Section 102.01B and there has been no trading in the private market for such security; and (iv) amend Rule 123D to specify that the Exchange may declare a regulatory halt in a security that is the subject of an initial listing on the Exchange.

¹ 15 U.S.C. 78s(b)(1).

² 17 CFR 240.19b-4.

The proposed rule change was published for comment in the Federal Register on June 20, 2017.³ The Commission received one comment in response to the proposed rule change.⁴ The Exchange filed Amendment No. 1, which supersedes and replaces the proposed rule change in its entirety, on July 28, 2017.⁵

³ See Securities Exchange Act Release No. 34-80933 (June 15, 2017), 82 FR 28200 (June 20, 2017) (“Notice”).

⁴ See letter to the Commission from James J. Angel, Ph.D., CFA, Georgetown University, dated July 28, 2017.

⁵ Amendment No. 1 removes the proposal to allow the Exchange to declare a regulatory halt in a security that is the subject of an initial public offering, and amends the proposed provisions of Rule 15 and Rule 104 relating to private placement market trading and proposed Rule 123D(d) relating to trading halts for initial listings. Amendment No. 1 is available at https://www.sec.gov/comments/sr-nyse-2017-30/nyse201730.htm.

Section 19(b)(2) of the Act ⁶ provides that, within 45 days of the publication of the notice of the filing of a proposed rule change, or within such longer period up to 90 days as the Commission may designate if it finds such longer period to be appropriate and publishes its reasons for so finding or as to which the self-regulatory organization consents, the Commission shall approve the proposed rule change, disapprove the proposed rule change, or institute proceedings to determine whether the proposed rule change should be disapproved. The Commission is extending this 45-day time period.

⁶ 15 U.S.C. 78s(b)(2).

The Commission finds that it is appropriate to designate a longer period within which to take action on the proposed rule change so that it has sufficient time to consider the proposed rule change, as modified by Amendment No. 1. Accordingly, the Commission, pursuant to Section 19(b)(2) of the Act,⁷ designates September 18, 2017, as the date by which the Commission should approve, disapprove, or institute proceedings to determine whether to disapprove the proposed rule change (File No. SR-NYSE-2017-30), as modified by Amendment No. 1.

⁷ Id.

For the Commission, by the Division of Trading and Markets, pursuant to delegated authority.⁸
⁸ 17 CFR 200.30-3(a)(57).
Eduardo A. Aleman,
Assistant Secretary.

[FR Doc. 2017-16741 Filed 8-8-17; 8:45 am]

BILLING CODE 8011-01-P